NUCLEAR REGULATORY COMMISSION

Advisory Committee on the Medical Uses of Isotopes: Meeting Notice

AGENCY: Nuclear Regulatory Commission.

ACTION: Notice of meeting.

SUMMARY: The U.S. Nuclear Regulatory Commission (NRC) will convene a meeting of the Advisory Committee on the Medical Uses of Isotopes (ACMUI) on October 4, 2021. A sample of agenda items to be discussed during the public session includes: (1) A discussion of the ACMUI's review and analysis of medical events from fiscal years 2017 to 2020; (2) a discussion of the ACMUI's subcommittee report on radionuclide generator knowledge and practice requirements; (3) a discussion of the ACMUI's subcommittee report on emerging radiopharmaceutical therapy knowledge requirements in theranostics; (4) a discussion on production challenges for therapeutic radiopharmaceuticals; and (5) a discussion on the future of personalized dosimetry. The agenda is subject to change. The current agenda and any updates will be available on the ACMUI's Meetings and Related Documents web page at https://www.nrc.gov/reading-rm/doc-collections/acmui/meetings/2021.html or by emailing Ms. Kellee Jamerson at the contact information below.

Purpose: Discuss issues related to 10 CFR part 35 Medical Use of Byproduct Material.

Date and Time for Open Session: October 4, 2021, from 10:00 a.m. to 4:00 p.m.

Date | Webinar information
October 4, 2021 | Link: https://usnrc.webex.com. Event number: 199 227 5195.

Date and Time for Closed Session: October 5, 2021, from 12:00 p.m. to 2:00 p.m. Eastern Standard Time. This session will be closed to conduct the ACMUI's required annual training.

Public Participation: The meeting will be held as a webinar using the WebEx meeting platform. Any member of the public who wishes to participate in any open sessions of this meeting should register in advance of the meeting by visiting the link and entering the event number(s) provided above. Upon successful registration, a confirmation email will be generated providing the telephone bridge line and a link to join the webinar on the day of the meeting. Members of the public should also monitor the NRC's Public Meeting Schedule at https://www.nrc.gov/pmns/mtg for any meeting updates. If there are any questions regarding the meeting, persons should contact Ms. Jamerson using the information below.

Contact Information: Ms. Kellee Jamerson, email: Kellee.Jamerson@nrc.gov, telephone: 301-415-7408.

Conduct of the Meeting

Darlene F. Metter, M.D. will chair the meeting. Dr. Metter will conduct the meeting in a manner that will facilitate the orderly conduct of business. The following procedures apply to public participation in the meeting:

1. Persons who wish to provide a written statement should submit an electronic copy to Ms. Jamerson using the contact information listed above. All submittals must be received by the close of business on September 28, 2021, three business days before the meeting, and must pertain to the topics on the agenda for the meeting.

2. Questions and comments from members of the public will be permitted during the meeting, at the discretion of the Chairman.

3. The draft transcript and meeting summary will be available on ACMUI's website https://www.nrc.gov/reading-rm/doc-collections/acmui/meetings/2021.html on or about November 19, 2021.

4. Persons who require special services, such as those for the hearing impaired, should notify Ms. Jamerson of their planned participation.

This meeting will be held in accordance with the Atomic Energy Act of 1954, as amended (primarily Section 161a); the Federal Advisory Committee Act (5 U.S.C. app); and the Commission's regulations in title 10 of the Code of Federal Regulations, part 7.

Dated at Rockville, Maryland this 24th day of August, 2021.
For the U.S. Nuclear Regulatory Commission.
Russell E. Chazell,
Federal Advisory Committee Management Officer.

[FR Doc. 2021-18514 Filed 8-26-21; 8:45 am]

BILLING CODE 7590-01-P